DEPARTMENT OF THE TREASURY

Internal Revenue Service

Privacy Act of 1974: Computer Matching Program

AGENCY: Internal Revenue Service, Treasury.

ACTION: Notice of Matching Program.

SUMMARY: Pursuant to section 552a(e)(12) of the Privacy Act of 1974, as amended, and the Office of Management and Budget (OMB) Guidelines on the Conduct of Matching Programs, notice is hereby given of the conduct of the Internal Revenue Service Disclosure of Information to Federal, State and Local Agencies (DIFSLA) Computer Matching Program.

DATES: Effective Date: This notice will be effective June 1, 2011.

ADDRESSES: Inquiries may be mailed to the Director, Office of Governmental Liaison and Disclosure, Attn: Samuel M. Farrow, Program Manager, Internal Revenue Service, SE:S:CLD:GLD:DS—M/S C-2-235, 500 Ellin Road, Lanham, MD 20706.

FOR FURTHER INFORMATION CONTACT: Samuel M. Farrow, Program Manager, Office of Governmental Liaison and Disclosure, Internal Revenue Service, SE:S:CLD:GLD:DS—M/S C-2-235, 500 Ellin Road, Lanham, MD 20706. (202) 283-5211.

SUPPLEMENTARY INFORMATION: The notice of the matching program was last published on August 15, 2008 at 73 FR 48021. Members of the public desiring specific information concerning an ongoing matching activity may request a copy of the applicable computer matching agreement at the address provided above.

Purpose

The purpose of this program is to prevent or reduce fraud and abuse in certain federally assisted benefit programs while protecting the privacy interest of the subjects of the match. Information is disclosed by the Internal Revenue Service only for the purpose of, and to the extent necessary in, determining eligibility for, and/or the correct amount of, benefits for individuals applying for or receiving certain benefit payments.

Authority

In accordance with section 6103(l)(7) of the Internal Revenue Code (IRC), the Secretary shall, upon written request, disclose current return information from returns with respect to unearned income from the Internal Revenue Service files to any federal, state or local agency administering a program listed below:

(1) A state program funded under part A of Title IV of the Social Security Act;

(2) Medical assistance provided under a state plan approved under Title XIX of the Social Security Act;

(3) Supplemental security income benefits under Title XVI of the Social Security Act, and federally administered supplementary payments of the type described in section 1616(a) of such Act (including payments pursuant to an agreement entered into under section 212(a) of Pub. L. 93-66);

(4) Any benefits provided under a state plan approved under Title I, X, XIV, or XVI of the Social Security Act (as those titles apply to Puerto Rico, Guam, and the Virgin Islands);

(5) Unemployment compensation provided under a state law described in section 3304 of the IRC:

(6) Assistance provided under the Food Stamp Act of 1977;

(7) State-administered supplementary payments of the type described in section 1616(a) of the Social Security Act (including payments pursuant to an agreement entered into under section 212(a) of Pub. L. 93-66);

(8)(a) Any needs-based pension provided under Chapter 15 of Title 38, United States Code, or under any other law administered by the Secretary of Veterans Affairs;

(b) Parents' dependency and indemnity compensation provided under section 1315 of Title 38, United States Code;

Name of Recipient Agency: Internal Revenue Service.

Categories of records covered in the match: Internal Revenue Service Wage and Information Returns Processing file (Treas/IRS System 22.061 (IRP)) for the latest tax year. This file contains information returns (e.g., Forms 1099-DIV, 1099-INT and W-2G) filed by payors of income.

Name of source agencies and categories of records covered in the match:

A. Federal agencies expected to participate and their Privacy Act systems of records are:

1. Department of Veterans Affairs: Veterans Benefits Administration—Compensation, Pension and Education and Rehabilitation Records-VA, 58 VA 21/22; and Veterans Health Administration-Healthcare Eligibility Records, 89VA19;

2. Social Security Administration, Office of Systems Requirements—Supplemental Security Income record and Special Veterans Benefits, (60-0103)

B. State agencies expected to participate using non-federal systems of records are:

1. Alabama Department of Human Resources.

2. Alabama Medicaid Agency.

3. Alaska Department of Health & Social Services.

4. Arizona Department of Economic Security.

5. Arkansas Department of Human Services.

6. California Department of Social Services.

7. Colorado Department of Human Services.

8. Connecticut Department of Social Services.

9. Delaware Department of Health & Social Services.

10. D.C. Department of Human Services.

11. Florida Department of Children & Families.

12. Georgia Department of Human Resources.

13. Hawaii Department of Human Services.

14. Idaho Department of Health and Welfare.

15. Illinois Department of Human Services.

16. Indiana Family & Social Services Administration.

17. Iowa Department of Human Services.

18. Kansas Department of Social/Rehab Services.

21. Kentucky Cabinet for Health and Family Services.

22. Louisiana Department of Health & Hospitals.

23. Louisiana Department of Children and Family Services.

24. Maine Department of Human Services.

25. Maryland Department of Human Services.

26. Massachusetts Department of Transitional Assistance.

27. Michigan Department of Human Services.

28. Minnesota Department of Human Services.

29. Mississippi Department of Human Services.

30. Mississippi Division of Medicaid.

31. Missouri Department of Social Services.

32. Montana Department of Public Health & Human Services.

33. Nebraska Department of Health & Human Services.

34. Nevada Department of Human Services.

35. New Hampshire Department of Health & Human Services.

36. New Jersey Department of Human Services.

37. New Mexico Human Services Department.

38. New York Office of Temporary & Disability Assistance.

39. North Carolina Department of Health & Human Services.

40. North Dakota Department of Human Services.

41. Ohio Department of Job and Family Services.

42. Oklahoma Department of Human Services.

43. Oregon Department of Human Resources.

44. Pennsylvania Department of Public Welfare.

45. Puerto Rico Department of the Family.

46. Rhode Island Department of Human Services.

47. South Carolina Department of Social Services.

48. South Dakota Department of Social Services.

49. Tennessee Department of Human Services.

50. Texas Health and Human Services Commission.

51. Utah Department of Health.

52. Utah Department of Workforce Services.

53. Vermont Department of Children and Families.

54. Virgin Islands Department of Human Services.

55. Virginia Department of Health and Human Services.

56. Washington Department of Social & Health Services.

57. West Virginia Department of Health and Human Services.

58. Wisconsin Department of Health Services.

59. Wyoming Department of Family Services.

Beginning and completion dates: The matches are conducted on an ongoing basis in accordance with the terms of the computer matching agreement in effect with each participant as approved by the applicable Data Integrity Board(s). The term of these agreements is expected to cover the 18-month period, January 1, 2011, through June 30, 2012. Ninety days prior to expiration of the agreement, the parties to the agreement may request a 12-month extension in accordance with 5 U.S.C. 552a(o).

Dates: April 26, 2011.
Melissa Hartman,
Deputy Assistant Secretary for Privacy, Transparency and Records.

[FR Doc. 2011-10566 Filed 4-29-11; 8:45 am]

BILLING CODE 4830-01-P